DEPARTMENT OF TRANSPORTATION

Pipeline and Hazardous Materials Safety Administration

[Docket No. PHMSA-2021-0115]

Pipeline Safety: Information Collection Activities, Gas and Liquid Pipeline Safety Program Performance Progress Report

AGENCY: Pipeline and Hazardous Materials Safety Administration (PHMSA), DOT.

ACTION: Notice and request for comments.

SUMMARY: In compliance with the Paperwork Reduction Act of 1995 (44 U.S.C. 3501 et seq.), this notice announces that the information collection request abstracted below is being forwarded to the Office of Management and Budget (OMB) for review and comment. A Federal Register notice with a 60-day comment period soliciting comments on the information collection was published on December 15, 2021.

DATES: Interested persons are invited to submit comments on or before March 25, 2022.

ADDRESSES: The public is invited to submit comments regarding this information collection request, including suggestions for reducing the burden, to the Office of Management and Budget, Attention: Desk Officer for the Office of the Secretary of Transportation, 725 17th Street NW, Washington, DC 20503. Comments can also be submitted electronically at www.reginfo.gov/public/do/PRAMain.

FOR FURTHER INFORMATION CONTACT: Angela Hill by email at angela.dow@dot.gov.

SUPPLEMENTARY INFORMATION: Section 1320.8(d), Title 5, Code of Federal Regulations, requires PHMSA to provide interested members of the public and affected agencies an opportunity to comment on information collection and recordkeeping requests. In accordance with this regulation, on December 15, 2021, (86 FR 71317) PHMSA published a Federal Register notice with a 60-day comment period soliciting comments on the information collection. PHMSA received no comments in response to this information collection request. This notice identifies the information collection request that PHMSA will submit to the OMB for approval.

The following information is provided below for the impacted information collection: (1) Title of the information collection; (2) OMB control number; (3) Current expiration date; (4) Type of request; (5) Abstract of the information collection activity; (6) Description of affected public; (7) Estimate of total annual reporting and recordkeeping burden; and (8) Frequency of collection.

PHMSA will request a three-year term of approval for the following information collection:

Title: Gas Pipeline Safety Program Performance Progress Report and Hazardous Liquid Pipeline Safety Program Performance Progress Report.

OMB Control Number: 2137-0584.

Current Expiration Date: 03/31/2022.

Abstract: Section 60105 of 49 U.S.C. sets forth specific requirements a state must meet to qualify for certification status to assume regulatory and enforcement responsibility for intrastate pipelines. A state must submit an annual performance progress report to validate responsibility for regulating intrastate pipelines, and states who receive federal grant funding must also show the state has adequate damage prevention plans and associated records in place.

PHMSA uses this information to evaluate a state's eligibility for federal grants and to enforce regulatory compliance. This information collection request requires a participating state to annually submit a Gas Pipeline Safety Program Performance Progress Reports and/or a Hazardous Liquid Pipeline Safety Program Performance Progress Report to PHMSA's Office of Pipeline Safety showing compliance with the terms of the certification and to maintain records detailing a damage prevention plan. The purpose of the collection is to exercise oversight of the grant program and to ensure that states are compliant with federal pipeline safety regulations.

PHMSA intends to request renewal of this information collection and to make minor, editorial changes to instructions and definitions sections of Gas Pipeline Safety Program Performance Progress Report and a Hazardous Liquid Pipeline Safety Program Performance Progress Report in order to update and clarify how participating state agencies should report the required information.

Affected Public: State and local governments.

Annual Reporting and Recordkeeping Burden:

Total Annual Responses: 117.

Total Annual Burden Hours: 4,473.

Frequency of Collection: Annually.

Comments to Office of Management and Budget are invited on:

(a) The need for the proposed information, including whether the information will have practical utility in helping the agency to achieve its pipeline safety goals;

(b) The accuracy of the agency's estimate of the burden of the proposed collection;

(c) Ways to enhance the quality, utility, and clarity of the information to be collected; and

(d) Ways to minimize the burden on those who are to respond, including the use of appropriate automated, electronic, mechanical, or other technological collection techniques.

Authority: The Paperwork Reduction Act of 1995; 44 U.S.C. chapter 35, as amended; and 49 CFR 1.48.

Issued in Washington, DC, on February 17, 2022, under authority delegated in 49 CFR 1.97.
John A. Gale,
Director, Standards and Rulemaking Division.

[FR Doc. 2022-03800 Filed 2-22-22; 8:45 am]

BILLING CODE 4910-60-P